CONSUMER PRODUCT SAFETY COMMISSION

16 CFR Parts 1508 and 1509

Full-Size and Non-Full Size Baby Cribs: Withdrawal of Advance Notice of Proposed Rulemaking

AGENCY: Consumer Product Safety Commission.

ACTION: Withdrawal of advance notice of proposed rulemaking.

SUMMARY: The Consumer Product Safety Commission (“Commission”) is terminating a proceeding for the possible amendment of the Commission's standards for full-size cribs, codified at 16 CFR part 1508, and for non-full-size cribs, codified at 16 CFR part 1509 which the Commission began with publication of an advance notice of proposed rulemaking on December 16, 1996, 61 FR 65997. On August 14, 2008, the Consumer Product Safety Improvement Act of 2008 (“CPSIA”) was enacted. Section 104(b) of the CPSIA requires the Commission to promulgate consumer product safety standards for durable infant or toddler products, which are to be “substantially the same as” applicable voluntary standards (or more stringent requirements if they would further reduce the risk of injury associated with the product). Elsewhere in this issue of the Federal Register, the Commission is proposing safety standards for full-size and non-full-size baby cribs in response to section 104(b) of the CPSIA. The crib standards the Commission is proposing include provisions that address the risks of injury identified in the 1996 ANPR.

FOR FURTHER INFORMATION CONTACT: Patricia Edwards, Project Manager, Directorate for Engineering Sciences, Consumer Product Safety Commission, 4330 East West Highway, Bethesda, MD 20814; telephone (301) 504-7577; pedwards@cpsc.gov.

SUPPLEMENTARY INFORMATION:

A. Background

In 1973, the Commission issued mandatory regulations for full-size cribs, which were amended in 1982 and are codified at 16 CFR part 1508. In 1976, the Commission issued nearly identical regulations for non-full-size cribs, which were also amended in 1982, and are codified at 16 CFR part 1509. In 1996, the Commission published an advance notice of proposed rulemaking (“ANPR”) which initiated a rulemaking proceeding for the possible amendment of the Commission's crib regulations to address the risk of slats disengaging from cribs sides. 61 FR 65997 (Dec. 16, 1996). After publication of the ANPR, the Commission staff worked with the voluntary standards group, ASTM International (formerly known as the American Society for Testing and Materials), which added provisions in its standard for full-size baby cribs, ASTM F 1169, to address this hazard.

The Consumer Product Safety Improvement Act of 2008 (“CPSIA”, Pub. L. 110-314) was enacted on August 14, 2008. Section 104(b) of the CPSIA requires the Commission to promulgate consumer product safety standards for durable infant or toddler products. These standards are to be “substantially the same as” applicable voluntary standards or more stringent than the voluntary standard if the Commission concludes that more stringent requirements would further reduce the risk of injury associated with the product. Elsewhere in this issue of the Federal Register, the Commission is issuing a proposed rule that would establish safety standards for full-size and non-full-size cribs that are substantially the same as voluntary standards ASTM F 1169-10, Standard Consumer Safety Specification for Full-Size Baby Cribs, and ASTM F 406-10, Standard Consumer Safety Specification for Non-Full-Size Baby Cribs. The Commission proposes to incorporate these ASTM standards by reference with certain modifications to strengthen them. The proposed standards, as modified, would include provisions in both the full-size and non-full-size crib standards that address the risk of crib slat disengagement the Commission identified in the ANPR.

B. Withdrawal of the ANPR

The rulemaking that the Commission is now initiating under section 104(b) of the CPSIA proposes to establish new requirements for full-size and non-full size cribs that will include the requirements of the Commission's existing regulations codified at 16 CFR parts 1508 and 1509 and additional requirements in the ASTM voluntary standards. Because these new crib standards will include performance tests to address the risk of crib slat disengagement, the Commission is withdrawing the ANPR published December 16, 1996, 61 FR 65997, and terminating that rulemaking.

Dated: July 14, 2010.
Todd Stevenson,
Secretary, U.S. Consumer Product Safety Commission.

[FR Doc. 2010-17590 Filed 7-22-10; 8:45 am]

BILLING CODE 6355-01-P